DEPARTMENT OF THE INTERIOR

National Park Service

[NPS-WASO-NAGPRA-NPS0040364; PPWOCRADN0-PCU00RP14.R50000]

Notice of Intended Repatriation: Buffalo Bill Museum and Grave, Golden, CO

AGENCY: National Park Service, Interior.

ACTION: Notice.

SUMMARY: In accordance with the Native American Graves Protection and Repatriation Act (NAGPRA), the Buffalo Bill Museum and Grave intends to repatriate a certain cultural item that meets the definition of an object of cultural patrimony and that has a cultural affiliation with the Indian Tribes or Native Hawaiian organizations in this notice.

DATES: Repatriation of the cultural item in this notice may occur on or after July 17, 2025.

ADDRESSES: Send additional, written requests for repatriation of the cultural item in this notice to Rebecca Jacobs, Buffalo Bill Museum and Grave, 987 ½ Lookout Mountain Road, Golden, CO 80401, email rebecca.jacobs@denvergov.org.

SUPPLEMENTARY INFORMATION: This notice is published as part of the National Park Service's administrative responsibilities under NAGPRA. The determinations in this notice are the sole responsibility of the Buffalo Bill Museum and Grave, and additional information on the determinations in this notice, including the results of consultation, can be found in the summary or related records. The National Park Service is not responsible for the determinations in this notice.

Abstract of Information Available

A total of one cultural item has been requested for repatriation. The one object of cultural patrimony is a double ball (T2023.1.1). This double ball was recently donated to the museum by a relative of Reverend George Allen Beecher. Beecher was a bishop who developed a friendship with William F. “Buffalo Bill” Cody and Cody's family including Johnny Baker, Cody's foster son, who later became, along with his wife, Olive Baker, founder of the museum. Beecher spent most of his life in Nebraska working in a religious capacity. He worked at the Fort Sidney Mission in Sidney, Nebraska; the Church of Our Survivors in North Platte, Nebraska; St. Luke's Church in Kearney, Nebraska; he became Dean of Trinity Cathedral in Omaha, Nebraska; and then became Bishop of the Missionary District of Western Nebraska. According to his autobiography, through his time as a religious leader, he developed relationships with people he referred to as Sioux. A close friend of Cody, he attended Buffalo Bill's Wild West as a guest in 1901 and traveled with the show for the 1905 season where he interacted with the Lakota performers employed with the show. To the current knowledge of museum staff there is no known presence of any potentially hazardous substances used to treat the double ball.

Determinations

The Buffalo Bill Museum and Grave has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Assiniboine and Sioux Tribes of the Fort Peck Indian Reservation, Montana.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after July 17, 2025. If competing requests for repatriation are received, the Buffalo Bill Museum and Grave must determine the most appropriate requestor prior to repatriation. Requests for joint repatriation of the cultural item are considered a single request and not competing requests. The Buffalo Bill Museum and Grave is responsible for sending a copy of this notice to the Indian Tribes and Native Hawaiian organizations identified in this notice and to any other consulting parties.

Authority: Native American Graves Protection and Repatriation Act, 25 U.S.C. 3004 and the implementing regulations, 43 CFR 10.9.

Dated: June 6, 2025.
Melanie O'Brien,
Manager, National NAGPRA Program.

[FR Doc. 2025-11150 Filed 6-16-25; 8:45 am]

BILLING CODE 4312-52-P